DEPARTMENT OF TRANSPORTATION

Federal Aviation Administration

Notice of Intent To Rule on Application To Impose and Use the Revenue From a Passenger Facility Charge (PFC) at Hartsfield Atlanta International Airport, Atlanta, GA

AGENCY: Federal Aviation Administration (FAA), DOT.

ACTION: Notice of intent to rule on application.

SUMMARY: The FAA proposes to rule and invites public comment on the application to impose and use the revenue from a PFC at Hartsfield Atlanta International Airport under the provisions of the Aviation Safety and Capacity Expansion Act of 1990 (Title IX of the Omnibus Budget Reconciliation Act of 1990) (Pub. L. 101-508) and part 158 of the Federal Aviation Regulations (14 CFR part 158).

DATES: Comments must be received on or before August 14, 2003.

ADDRESSES: Comments on this application may be mailed or delivered in triplicate to the FAA at the following address: Atlanta District Office, Campus Building, 1701 Columbia Avenue, Suite 2-260, College Park, Georgia 30337-2747.

In addition, one copy of any comments submitted to the FAA must be mailed or delivered to Art Bacon, Aviation Business Manager of the City of Atlanta's Department of Aviation at the following address: Art Bacon, Aviation Business Manager, City of Atlanta, Department of Aviation, PO Box 20509, Atlanta, GA 30320-2509.

Air carriers and foreign air carriers may submit copies of written comments previously provided to the City of Atlanta under section 158.23 of part 158.

FOR FURTHER INFORMATION CONTACT: Terry Washington, P.E., Program Manager, Atlanta Airports District Office, Campus Building, 1701 Columbia Avenue, Suite 2-260, College Park, Georgia 30337-2747, Telephone Number: 404-305-7143. The application may be reviewed in person at this same location.

SUPPLEMENTARY INFORMATION: The FAA proposes to rule and invites public comment on the application to impose and use the revenue from a PFC at ATL under the provisions of the Aviation Safety and Capacity Expansion Act of 1990 (Title IX of the Omnibus Budget Reconciliation Act of 1990) (Pub. L. 101-508) and part 158 of the Federal Aviation Regulations (14 CFR part 158).

On Thursday, July 3, 2003, the FAA determined that the application to impose and use the revenue from a PFC submitted by the City of Atlanta was substantially complete within the requirements of section 158.25 of part 158. The FAA will approve or disapprove the application, in whole or in part, no later than October 1, 2003.

The following is a brief overview of the application.

PFC Application No.: 03-04-C-00-ATL.

Level of the PFC: $4.50.

Charge effective date: October 1, 2013.

Proposed charge expiration date: January 2015.

Total estimated PFC revenue: $308,565,000.

Brief description of proposed project(s): Automated Hold Baggage Screening.

Class or classes of air carriers which the public agency has requested not be required to collect PFCs: Air Taxi/Commercial Operators (ATCO) when enplaining revenue passengers in limited, irregular, special service operations.

Any person may inspect the application in person at the FAA office listed above under FOR FURTHER INFORMATION CONTACT.

In addition, any person may, upon request, inspect the application, notice and other documents germane to the application in person at the City of Atlanta's Department of Aviation.

Issued in Atlanta, Georgia on Thursday, July 3, 2003.
Scott L. Seritt,
Manager, Atlanta Airports District Office, Southern Region.

[FR Doc. 03-17767 Filed 7-14-03; 8:45 am]

BILLING CODE 4910-13-M